DEPARTMENT OF JUSTICE

Antitrust Division

Notice Pursuant to the National Cooperative Research and Production Act of 1993—National Armaments Consortium

Notice is hereby given that, on February 3, 2017, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Mission Critical Solutions, LLC, Alum Bank, PA; Seiler Instrument & Manufacturing Co., Inc., St. Louis, MO; IERUS Technologies, Inc., Huntsville, AL; Cree, Inc., Durham, NC; Eclipse Energy Systems, Inc., St. Petersburg, FL; Rite-Solutions, Inc., Pawcatuck, CT; SEMATECH, Inc., Albany, NY; Defense Engineering Services, LLC, Charleston, SC; JENOPTIK Advanced Systems, LLC, El Paso, TX; CGS Group, LLC, Artesia, NM; Inertial Labs, Inc., Paeonian Springs, VA; GPC Engineering Company, Ridgecrest, CA; New Horizons Foundation, Hobbs, NM; C F D Research, Huntsville, AL; Faxon Machining Inc., Cincinnati, OH; Reperi LLC, Whitefish, MT; American Rheinmetall Systems, LLC, Biddeford, ME; Granite State Manufacturing, Manchester, NH; General Atomics Aeronautical Systems, Inc., San Diego, CA; Veritech, Inc., Whippany, NJ; Stratom, Inc., Boulder, CO; and D&G Machine Products, Inc., Westbrook, ME, have been added as parties to this venture.

Also, Central Screw Products dba Detroit Gun Works, Troy, MI; CompGeom, Inc., Tallahassee, FL; Applied Minds, LLC, Glendale, CA; General Electric Company, Niskayuna, NY; Unified Business Technologies, Inc., Troy, MI; Advanced Material Designs & Reliability, Austin, TX; Colorado Photopolymer Solutions, LLC, Boulder, CO; CGI Federal (Stanley Associates, Inc.), Huntsville, AL; MAST Technology, Inc., Independence, MO; Systems and Materials Research Corporation, Austin, TX; Rel, Inc., Calumet, MI; and Atlantic Fluid Power, Inc. dba Atlantic Industrial Technologies, Shirley, NY, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on October 25, 2016. A notice was published in the Federal Register pursuant to Section 6(b) of the Act on December 13, 2016 (81 FR 89992).

Patricia A. Brink,
Director of Civil Enforcement, Antitrust Division.

[FR Doc. 2017-04250 Filed 3-3-17; 8:45 am]

BILLING CODE P